DEPARTMENT OF JUSTICE

28 CFR Part 0

[AG Order No. 2343-2000]

Authority To Compromise and Close Civil Claims

AGENCY: Department of Justice, Civil Division.

ACTION: Final rule.

SUMMARY: This rule restores to the Code of Federal Regulations language regarding the definition of “gross amount of the original claim” that appears to have been omitted through clerical error when the regulation was previously amended. This amendment added language relating to the settlement of certain customs penalty cases but inadvertently replaced, rather than supplemented, the then existing language.

EFFECTIVE DATE: December 15, 2000.

FOR FURTHER INFORMATION CONTACT: Stephen Altman, Assistant Director, Commercial Litigation Branch, Civil Division, Department of Justice, Room 6540, 601 D Street, NW., Washington, DC 20004; (202) 307-0188.

SUPPLEMENTARY INFORMATION:

Why Is the Department Publishing This Rule?

This rule corrects the regulations governing authority to compromise civil claims. This amendment restores the exact language of 28 CFR 0.169 that was deleted when a prior amendment published on September 8, 1986, inadvertently substituted rather than added language defining that term as applied to the settlement of certain customs penalty cases. 51 FR 31939.

To What Situations Does the Regulation Being Amended Apply?

The regulation at 28 CFR 0.169, which this rule amends, is included in subpart Y of Title 28 of the Code of Federal Regulations. Subpart Y deals with the authority of the Assistant Attorneys General of the various litigating divisions of the Department of Justice to compromise and close civil claims, and the responsibility for collecting and enforcing judgments, fines, penalties, and forfeitures. Throughout subpart Y, various levels of authority are defined by reference to the term “gross amount of the original claim.” This definition is important in setting the scope of authority in fraud cases where a demand may be made for multiples of single damages and forfeitures or civil penalties.

How Does This Rule Affect Persons Outside the Department?

This rule has no effect on the rights or obligations of persons outside the Department. It only pertains to case settlement authorities delegated to certain Department personnel.

Administrative Procedure Act 5 U.S.C. 553

Because this rule relates to agency organization and pertains to a matter of internal Department of Justice management and procedures, the rule does not need to be published for public comment, 5 U.S.C. 553(a)(2). The rule is effective upon issuance.

Regulatory Flexibility Act

The Attorney General, in accordance with the Regulatory Flexibility Act (5 U.S.C. 605(b)), has reviewed this regulation and by approving it certifies that this regulation will not have a significant economic impact on a substantial number of small entities because it pertains to administrative and organizational matters affecting the Department. Further, a Regulatory Flexibility Analysis was not required to be prepared for this final rule since the Department was not required to publish a general notice of proposed rulemaking for this matter.

Executive Order 12866

This action has been drafted and reviewed in accordance with Executive Order 12866, “Regulatory Planning and Review,” section 1(b), Principles of Regulation. This rule is limited to agency organization, management, and personnel as described by section 3(d)(3) of Executive Order 12866 and, therefore, is not a “regulation” or “rule” as defined by this Executive Order. Accordingly, this action has not been reviewed by the Office of Management and Budget.

Executive Order 13132

This regulation will not have substantial direct effects on the States, on the relationship between the national government and the States, or on distribution of power and responsibilities among the various levels of government. Therefore, in accordance with Executive Order 13132, it is determined that this rule does not have sufficient federalism implications to warrant the preparation of a Federalism Summary Impact Statement.

Executive Order 12988

This regulation meets the applicable standards set forth in sections 3(a) and 3(b)(2) of Executive Order 12988, Civil Justice Reform.

Small Business Regulatory Enforcement Fairness Act of 1996

This rule is not a major rule as defined by section 251 of the Small Business Regulatory Enforcement Fairness Act of 1996. 5 U.S.C. 804. This rule will not result in an annual effect on the economy of $100,000,000 or more; a major increase in costs or prices; or significant adverse effects on competition, employment, investment, productivity, innovation, or the ability of United States-based companies to compete with foreign-based companies in domestic and export markets.

Unfunded Mandates Reform Act of 1995

This rule will not result in the expenditure by State, local, and tribal governments, in the aggregate, or by the private sector, of $100,000,000 or more in any one year, and it will not significantly or uniquely affect small governments. Therefore, no actions were deemed necessary under the provisions of the Unfunded Mandates Reform Act of 1995.

Plain Language Instructions

We try to write clearly. If you can suggest how to improve the clarity of these regulations, call or write: Stephen Altman, Assistant Director, Commercial Litigation Branch, Civil Division, Department of Justice, Room 6540, 601 D Street, NW., Washington, DC 20004; (202) 307-0188.

Congressional Review Act

This action pertains to agency management, personnel, and organization and does not substantially affect the rights or obligations of non-agency parties and, accordingly, is not a “rule” as that term is used by the Congressional Review Act (Subtitle E of the Small Business Regulatory Enforcement Fairness Act of 1996). Therefore, the reporting requirement of 5 U.S.C. 801 does not apply.

List of Subjects in 28 CFR Part 0

Authority delegations (government agencies), Government employees, Organization and functions (government agencies), Whistleblowing.

Accordingly, for the reasons set forth in the preamble, Chapter I of Title 28 of the Code of Federal Regulations is amended as follows:

PART 0—[AMENDED]

1. The authority citation for part 0 continues to read as follows:

Authority: 5 U.S.C. 301; 28 U.S.C. 509, 510, 515-519.

2. Revise § 0.169 to read as follows:

§ 0.169 Definition of “gross amount of the original claim”.

(a) The phrase gross amount of the original claim as used in this subpart Y and as applied to any civil fraud claim described in § 0.45(d), shall mean the amount of single damages involved.

(b) The phrase gross amount of the original claim as used in this subpart Y and as applied to any civil claim brought under section 592 of the Tariff Act of 1930, as amended (see § 0.45(c)), shall mean the actual amount of lost customs duties involved. In nonrevenue loss cases brought under section 592 of the Tariff Act of 1930, as amended, the phrase gross amount of the original claim shall mean the amount demanded in the Customs Service's mitigation decision issued pursuant to 19 U.S.C. 1618 or, if no mitigation decision has been issued, the gross amount of the original claim shall mean twenty percent of the dutiable value of the merchandise.

Dated: December 6, 2000.
Janet Reno,
Attorney General.

[FR Doc. 00-31765 Filed 12-14-00; 8:45 am]

BILLING CODE 4410-12-M